DEPARTMENT OF HEALTH AND HUMAN SERVICES

Food and Drug Administration

[Docket No. FDA-2008-N-0119]

Canned Pacific Salmon Deviating From Identity Standard; Temporary Permit for Market Testing

AGENCY: Food and Drug Administration, HHS.

ACTION: Notice.

SUMMARY: The Food and Drug Administration (FDA) is announcing that a temporary permit has been issued to Yardarm Knot Fisheries, LLC, to market test canned Pacific salmon that deviates from the U.S. standard of identity for canned Pacific salmon. The purpose of the temporary permit is to allow the applicant to measure consumer acceptance of the product and assess commercial feasibility.

DATES: This permit is effective for 15 months, beginning on the date the permit holder introduces or causes the introduction of the test product into interstate commerce, but not later than June 6, 2008.

FOR FURTHER INFORMATION CONTACT: Ritu Nalubola, Center for Food Safety and Applied Nutrition (HFS-820), Food and Drug Administration, 5100 Paint Branch Pkwy., College Park, MD 20740, 301-436-2371.

SUPPLEMENTARY INFORMATION: In accordance with 21 CFR 130.17 concerning temporary permits to facilitate market testing of foods deviating from the requirements of the standards of identity issued under section 401 of the Federal Food, Drug, and Cosmetic Act (21 U.S.C. 341), FDA is giving notice that a temporary permit has been issued to Yardarm Knot Fisheries, LLC, 3600 15th Ave. West, suite 300, Seattle, WA 98119.

The permit covers limited interstate marketing tests of a product identified as Yardarm Knot “Skinless and Boneless Sockeye Salmon.” This canned salmon product may deviate from the U.S. standard of identity for canned Pacific salmon (§ 161.170 (21 CFR 161.170)) in that the product is prepared by removing the skin and bones of the salmon used. Therefore, in addition to the optional forms of pack provided in § 161.170(a)(3), this temporary marketing permit provides for an alternative “skinless and boneless” form of pack. The test product meets all the requirements of the standard with the exception of the “skinless and boneless” form of pack. The purpose of the temporary permit is to allow the applicant to measure consumer acceptance of the product, identify mass production problems, and assess commercial feasibility.

This permit provides for the temporary marketing of not more than 1.35 million pounds (or 612 thousand kilograms) of the test product. The test product will be manufactured by Yardarm Knot Fisheries, LLC, at Mile 1.5 Alaska Peninsula Highway, Naknek, Alaska 99633. The test product will be distributed by Yardarm Knot Fisheries, LLC, throughout the United States. The information panel of the label will bear nutrition labeling in accordance with 21 CFR 101.9. Each of the ingredients used in the food will be declared on the label as required by the applicable sections of 21 CFR part 101. This permit is effective for 15 months, beginning on the date the permit holder introduces or causes the introduction of the product into interstate commerce, but not later than (see DATES).

Dated: February 28, 2008.
Barbara Schneeman,
Director, Office of Nutritional Products, Labeling and Dietary Supplements, Center for Food Safety and Applied Nutrition.

[FR Doc. E8-4316 Filed 3-5-08; 8:45 am]

BILLING CODE 4160-01-S